DEPARTMENT OF JUSTICE

Notice of Lodging of Revised Second Agreement and Order Regarding Modification of the Consent Decree Under the Clean Water Act

On March 18, 2013, the Department of Justice lodged a proposed Revised Second Agreement and Order Regarding Modification of the Consent Decree (“Revised Second Consent Decree Modification”) with the United States District Court for the Middle District of Louisiana in the lawsuit entitled United States and the State of Louisiana v. City of Baton Rouge and Parish of East Baton Rouge, Civil Action No. No. 3:01-cv-00978-BAJ-SCR.

This action was originally filed in 2001 by the United States and the State of Louisiana under Clean Water Act (“CWA”) Section 301, 33 U.S.C. 1311, seeking civil penalties and injunctive relief for violations related to the publically owned treatment works owned and operated by the City of Baton Rouge and the Parish of East Baton Rouge (collectively “the City/Parish”). On March 14, 2002, the Court entered a Consent Decree resolving all claims in the Complaint (“the 2002 Consent Decree”). Among other requirements, the 2002 Consent Decree required the City/Parish to complete implementation by January 1, 2015 of a project to improve its sewage collection system including addressing Unauthorized Discharges such as sanitary sewer overflows. Under the proposed Revised Second Consent Decree Modification, the deadline would be extended to December 31, 2018 and the City/Parish would implement additional work including installation of a supervisory control and data acquisition system and installation of emergency generators at over 400 pump stations used in the sewage collection system.

The publication of this notice opens a period for public comment on the Revised Second Consent Decree Modification. Comments should be addressed to the Assistant Attorney General, Environment and Natural Resources Division, and should refer to United States v. City of Baton Rouge, D.J. Ref. No. 90-5-1-1-2769/1. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Revised Second Consent Decree Modification may be examined and downloaded at this Justice Department Web site: http://www.usdoj.gov/enrd/Consent_Decrees.html. We will provide a paper copy of the Revised Second Consent Decree Modification upon written request and payment of reproduction costs. Please mail your request and payment to: Consent Decree Library, U.S. DOJ—ENRD, P.O. Box 7611, Washington, DC 20044-7611. Please enclose a check or money order for $7.00 (25 cents per page reproduction cost) payable to the United States Treasury.

Maureen M. Katz,
Assistant Section Chief, Environmental Enforcement Section, Environment and Natural Resources Division.

[FR Doc. 2013-06559 Filed 3-21-13; 8:45 am]

BILLING CODE 4410-15-P